DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for the following projects: (1) Jacksonville Transit Authority, Rapid Transit System Phase One, Jacksonville, FL; (2) Salem-Keizer Transit, Keizer Transit Center Project, Salem, OR; (3) Massachusetts Bay Transportation Authority, Installation of Elevators at Park Street Station Project, Boston, MA; (4) Erie Metropolitan Transit Authority, Expansion of the 14th Street Bus Facility, Erie, PA; and (5) Metropolitan Council, Central Corridor Light Rail Transit Project—Construction of Three Infill Stations, St. Paul, MN. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation projects will be barred unless the claim is filed on or before September 14, 2010.

FOR FURTHER INFORMATION CONTACT: Antoinette Quagliata, Environmental Protection Specialist, Office of Planning and Environment, 202-366-4265, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with each project to comply with the National Environmental Policy Act (NEPA) and in other documents in the FTA administrative record for the project. Interested parties may contact either the project sponsor or the relevant FTA Regional Office for more information on these projects. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. For example, this notice does not extend the limitation on claims announced in the Federal Register on September 2, 2009 (74 FR 169) for the original Record of Decision (ROD) issued for the Central Corridor Light Rail Transit Project.

The projects and actions that are the subject of this notice are:

1. Project name and location: Jacksonville Rapid Transit System Phase One—Downtown Transit Enhancements, Jacksonville, FL. Project sponsor: Jacksonville Transit Authority. Project description: The project will construct a Bus Rapid Transit system in Jacksonville, Florida. This project is a part of an overall strategy to bring high-capacity public transit to downtown Jacksonville. The 5.6 mile system will include: Restructured bus routes, 2.84 miles of dedicated bus lanes, 15 station-stop enhancements, a traffic signal priority system, and a real-time traveler information network. Final agency actions: Section 106 finding of no adverse effect; project-level air quality conformity determination; no use of Section 4(f) properties; and a Finding of No Significant Impact (FONSI) signed February 11, 2010. Supporting documentation: Supplemental Environmental Assessment dated November 2009 and Environmental Assessment dated September 2008.

2. Project name and location: Keizer Transit Center Project, Salem, OR. Project sponsor: Salem-Keizer Transit. Project description: The project will construct a transit hub for the medium-sized community of Salem, Oregon, located 40 miles south of Portland. The proposed Keizer Transit Center will accommodate transfers between bus routes, have a 70-space park-and-ride lot, a passenger plaza, a kiss-and-ride lot, a transit information kiosk, and bicycle storage units. Final agency actions: Section 106 finding of no adverse effect; project-level air quality conformity determination; no use of Section 4(f) properties; and a Finding of No Significant Impact (FONSI) signed February 4, 2010. Supporting documentation: Environmental Assessment dated December 2009.

3. Project name and location: Installation of Elevators at Park Street Station, Boston, MA. Project sponsor: Massachusetts Bay Transportation Authority. Project description: The project will modernize elevators at the Park Street Station of the Massachusetts Bay Transportation Authority. Park Street is an intersection point for both the Green and Red subway lines. The station has a unique historic heritage, originally built in 1897, as one of America's first street-level subway systems. The current travel path between the Green and Red Lines requires three elevator transfers and an approximate 0.10 mile walk. This path is unduly long and can pose a challenge for persons with limited mobility or low physical stamina. The purpose of the project is to provide a shorter elevator-accessible path between the Green Line westbound platform and Red Line center platform. Final agency actions: Section 106 finding of no adverse effect; project-level air quality conformity determination; Section 4(f) de minimis impact determination; and a Finding of No Significant Impact (FONSI) signed December 29, 2009. Supporting documentation: Environmental Assessment dated August 2009.

4. Project name and location: Expansion of the 14th Street Bus Facility, Erie, PA. Project sponsor: Erie Metropolitan Transit Authority. Project description: The project involves the expansion of a bus maintenance and storage facility in Erie, Pennsylvania. Located on the western coast of Pennsylvania, the city of Erie is 120 miles north of Pittsburg. The proposed 9-acre site will house bus maintenance, storage, fueling, and washing facilities. Site plans also include provisions for additional parking and administrative office space. In total, the project will centralize operations from nine under-utilized buildings into the new facility. Final agency actions: Section 106 finding of no adverse effect; project-level air quality conformity determination; no use of Section 4(f) properties; and a Finding of No Significant Impact (FONSI) signed February 17, 2010. Supporting documentation: Environmental Assessment dated December 2009.

5. Project name and location: Three Infill Stations for the Central Corridor Light Rail Transit Project, St. Paul, MN. Project sponsor: Metropolitan Council. Project description: The project will construct three infill stations on the Central Corridor Light Rail Transit Project that will connect downtown Minneapolis and St. Paul, Minnesota. Previously, in August 2009, a Record of Decision was issued by FTA for constructing the original 10.9 mile light rail project that included only the below-grade infrastructure for the infill stations but did not include the above-grade stations. After the ROD was issued, however, a decision was made to construct the three above-ground infill stations in the Midway East section of the rail corridor. The Midway East section contains both residential and commercial properties. Final agency actions: Section 106 finding of no adverse effect; project-level air quality conformity determination; no use of Section 4(f) properties; and a Finding of No Significant Impact (FONSI) signed February 26, 2010. Supporting documentation: Environmental Assessment dated January 2010.

Issued on: March 15, 2010.
Susan Borinsky,
Associate Administrator for Planning and Environment, Washington, DC.

[FR Doc. 2010-5995 Filed 3-18-10; 8:45 am]

BILLING CODE P